DEPARTMENT OF COMMERCE

International Trade Administration

[A-570-851]

Certain Preserved Mushrooms From the People's Republic of China: Final Results of Antidumping Duty Administrative Review and Final Determination of No Shipments; 2015-2016

AGENCY: Enforcement and Compliance, International Trade Administration, Department of Commerce.

SUMMARY: On March 6, 2017, the Department of Commerce (the Department) published the preliminary results of the administrative review of the antidumping duty order on certain preserved mushrooms from the People's Republic of China (PRC) covering the period of review (POR) February 1, 2015, through January 31, 2016. We invited interested parties to comment on the preliminary results. We received comments from Dezhou Kaihang Agricultural Science Technology Co., Ltd. (Dezhou Kaihang) agreeing with the preliminary results. No other party submitted comments. Accordingly, the final results remain unchanged from the preliminary results.

DATES: Effective July 3, 2017.

FOR FURTHER INFORMATION CONTACT: Michael J. Heaney, AD/CVD Operations, Office VI, Enforcement and Compliance, International Trade Administration, U.S. Department of Commerce, 1401 Constitution Avenue NW., Washington, DC 20230; telephone (202) 482-4475.

SUPPLEMENTARY INFORMATION:

Background

On March 6, 2017, the Department published the Preliminary Results ¹ of the 2015-2016 administrative review of the antidumping duty order ² on certain preserved mushrooms from the PRC. We invited interested parties to comment on the Preliminary Results. On April 5, 2017, the Department received a letter in lieu of a case brief from Dezhou Kaihang.³ No other parties submitted case briefs or rebuttal briefs.

¹ See Certain Preserved Mushrooms from the People's Republic of China: Preliminary Results of Antidumping Duty Administrative Review, and Preliminary Determination of No Shipments; 2015-2016, 82 FR 12564 (March 6, 2017) (Preliminary Results), and accompanying Preliminary Decision Memorandum.

² See Notice of Amendment of Final Determination of Sales at Less Than Fair Value and Antidumping Duty Order: Certain Preserved Mushrooms from the People's Republic of China, 64 FR 8308 (February 19, 1999) (Order).

³ See Dezhou Kaihang Agricultural Science Technology Co., Ltd.'s Letter Brief in the Administrative Review of Certain Preserved Mushrooms from the People's Republic of China submitted April 5, 2017.

Scope of the Order

The products covered by this order are certain preserved mushrooms, whether imported whole, sliced, diced, or as stems and pieces. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and Customs purposes, the written description of the scope of this order is dispositive.⁴

⁴ For a complete description of the scope of the Order, see memorandum to Ronald K. Lorentzen, Acting Assistant Secretary for Enforcement and Compliance from Gary Taverman Deputy Assistant Secretary Antidumping and Countervailing Duty Operations “Certain Preserved Mushrooms from the People's Republic of China: Issues and Decision Memorandum for the Final Results of Administrative Review” (Issues and Decision Memorandum), dated concurrently with this notice and incorporated herein by reference.

Analysis of Comments Received

We addressed the comments received by Dezhou Kaihang in the Issues and Decision Memorandum. A list of the issues addressed in the Issues and Decision Memorandum is appended to this notice. The Issues and Decision Memorandum is a public document and is on file electronically via Enforcement and Compliance's Antidumping and Countervailing Duty Centralized Electronic Service System (ACCESS). ACCESS is available to registered users at https://access.trade.gov and it is available to all parties in the Central Records Unit, Room B-8024 of the main Department of Commerce building. In addition, a complete version of the Issues and Decision Memorandum can be accessed directly at http://enforcement.trade.gov/frn/index.html. The signed and electronic versions of the Issues and Decision Memorandum are identical in content.

Final Determination of No Shipments

In the Preliminary Results, we preliminarily determined that Zhangzhou Hongda Import & Export Trading Co., Ltd. (Hongda) and Zhangzhou Gangchang Canned Foods Co., Ltd. Fujian and Zhangzhou Gangchang Canned Foods Co., Ltd (collectively Gangchang) did not have any reviewable entries during the POR.⁵ In particular, we found that Hongda and Gangchang submitted timely certifications of no shipments, entries, or sales of subject merchandise during the POR, and we did not receive any information from U.S. Customs and Border Protection (CBP) indicating there were reviewable entries for those companies during the POR.

⁵ See Preliminary Results, 82 FR at 12564-12565

Consistent with the Department's assessment practice in non-market economy cases, we stated in the Preliminary Results that the Department would not rescind the review in these circumstances but, rather, would complete the review with respect to Hongda and Gangchang and issue appropriate instructions to CBP based on the final results of the review.⁶ We did not receive any comments following our Preliminary Results with respect to this issue. As such, in these final results, we continue to determine that Hongda and Gangchang had no reviewable entries of subject merchandise during the POR.

⁶ Id.

Final Results of Review

The Department received no comments disagreeing with the methodology or analysis employed in the Preliminary Results. Accordingly, the Department continues to determine that the following weighted-average dumping margin exists in these final results:

Exporter | Weighted- average dumping margin (percent)
Dezhou Kaihang Agricultural Science Technology Co. Ltd | 0.00

Additionally, in the Preliminary Results, we determined that the second mandatory respondent, Linyi City Kangfa Foodstuff Drinkable Co., Ltd. (Kangfa), failed to establish its eligibility for a separate rate and preliminarily determined to treat Kangfa as part of the PRC‐wide entity.⁷ We also preliminarily found that the remaining 98 exporters subject to this review did not establish their eligibility for separate rate status and that they were, thus, part of the PRC-wide entity.

⁷ Id., at 12564.

No parties commented on this issue following the Preliminary Results. Therefore, in these final results, we continue to determine that Kangfa and the other 98 exporters are part of the PRC-wide entity.⁸ Because no party requested a review of the PRC-wide entity and the Department no longer considers the PRC-wide entity as an exporter conditionally subject to administrative reviews, we did not conduct a review of the PRC-wide entity, and the entity's rate is not subject to change in this review.⁹

⁸ Companies that are subject to this administrative review that are considered to be part of the PRC-wide entity are: (1) Agrogentra & Co., Ltd., (2) Ayecue (Liaocheng) Foodstuff Co., Ltd., (3) Blue Field (Sichuan) Food Industrial Co., Ltd., (4) Cargo Services (China) Limited, (5) Casia Global Logistics Co., Ltd., (6) Changzhou Chen Rong-Da Carpet Co., Ltd., (7) Chaoda Mushroom Co., Ltd., (8) China National Cereals, Oil & Foodstuffs Import & Export Corp., (9) China Processed Food Import & Export Co., (10) Dalian New Century Food Co., Ltd., (11) DHL ISC (Hong Kong) Limited, (12) DSV Air Sea Co., Ltd., (13) Dujiangyan Xingda Foodstuff Co., Ltd., (14) Ever Since Group Co., Ltd., (15) Fujian Blue Lake Foods Co., Ltd., (16) Fujian Golden Banyan Foodstuffs Industrial Co., Ltd., (17) Fujian Haishan Foods Co., Ltd., (18) Fujian Pinghe Baofeng Canned Foods, (19) Fujian Tongfa Foods Group Co., Ltd., (20) Fujian Yuxing Fruits and Vegetables Foodstuffs Development Co., Ltd., (21) Fujian Zishan Group Co., Ltd.,(22) Golden Banyan Foodstuffs Industry Co., Ltd., (23) Guangxi Eastwing Trading Co., Ltd., (24) Guangxi Hengyong Industrial & Commerical Dev. Ltd., (25) Guangxi Jisheng Foods, Inc., (26) Hangzhou Happy Green Co., Ltd., (27) Hoa Mai Food Company Limited, (28) Honour Lane Shipping Ltd., (29) Inter-Foods (Dongshan) Co., Ltd., (30) Jeenhuat Foodstuffs Industries Sdn. Bhd., (31) Jewell International Corporation, (32) Jiangxi Cereals Oils Foodstuffs, (33) Jin Feng Food Co., Ltd., (34) Joy Foods (Zhangzhou) Co., Ltd., (35) Kuehne & Nagel Limited Xiamen Branch, (36) LF Logistics Co., Ltd., (37) Kangfa, (38) Linyi Yuqiao International Trade Co., Ltd., (39) Logistics THL Corp., (40) Longhai Guangfa Food Co., Ltd, (41) Mikado Food China Co., Ltd., (42) Nam Phuong International Co., Ltd., (43) Nam Tien Production & Export Co., Ltd., (44) Omni Ringo Business Ltd., (45) OOCL Logistics Ltd., (46) Orient Express Container Co., Ltd., (47) Paifu Enterprise Corporation, (48) Panalpina World Transport (PRC) Ltd., (49) Philippine Haofeng Food Corporation, (50) Primera Harvest (Xiangfan) Co., Ltd., (51) PT. Apex Maritim Indonesia, (52) PT. Eka Timur Raya (Etira Mushrooms), (53) PT. Suryajaya Abadi Perkasa, (54) Pudong Prime International Logistics Inc., (55) Seahorse Shipping Corporation, (56) Shandong Fengyu Edible Fungus Corporation Ltd., (57) Shandong Jiufa Edible Fungus Corporation, Ltd., (58) Shandong Xinfa Agricultural Science Corporation Ltd., (59) Shandong Yinfeng Rare Fungus Corporation, Ltd., (60) Shanghai Best Wholesome Economy & Trade Co., Ltd., (61) Shenzhen Syntrans International Logistics Co., Ltd., (62) Shouguang Sunrise Industry & Commerce Co., Ltd., (63) Shundi Foods Co., Ltd. (64) Speedier Logistics Co., Ltd., (65) Success Program International Transport J. S.C., (66) Sun Mark Industrial Corp., (67) Sun VN Transport Corp., (68) Sun Wave Trading Co., Ltd., (69) Sun Wave & Trading Co., Ltd., (70) Sunrise Food Industry & Commerce, (71) Thuy Duong Transport and Trading Service JSC, (72) Tianjin Fulida Supply Co., Ltd., (73) Woo Sun Food Factory Co., (74) Xiamen Aukking Imp. & Exp. Co., Ltd., (75) Xiamen Carre Food Co., Ltd., (76) Xiamen Choice Harvest Imp., (77) Xiamen Greenland Import & Export Co., Ltd., (78) Xiamen Gulong Imp. & Exp. Co., Ltd., (79) Xiamen Gulong Import & Export Co., Ltd., (80) Xiamen Huamin Import & Export Co., Ltd., (81) Xiamen International Trade & Industrial Co., Ltd., (82) Xiamen Jiahua Import & Export Trading Co., Ltd., (83) Xiamen Lian Fang Industry Co., Ltd., (84) Xiamen Longstar Lighting Co., Ltd., (85) Xiamen Longhuai Import & Export Co., Ltd., (86) Xiamen Sungiven Import & Export Co., Ltd., (87) Zhangzhou Golden Banyan Foodstuffs Industrial Co., Ltd. (88) Zhangzhou Long Mountain Foods Co., Ltd., (89) Zhangzhou Longhai Minhui Industry & Trade Co. Ltd., (90) Zhangzhou Tan Co. Ltd. Fujian, China, (91) Zhangzhou Tan Co., Ltd., (92) Zhangzhou Tongfa Foods Industry Co., Ltd., (93) Zhangzhou Xiangcheng Rainbow & Greenland Food Co., Ltd., (94) Zhangzhou Yuxing Imp. & Exp. Trading Co., Ltd., (95) Zhangzhou Yuxing Import & Export Trading Co., Ltd., (96) Zhejiang Jinhua Jinli Mushroom Co., Ltd., (97) Zhejiang Iceman Food Co., Ltd., (98) Zhejiang Iceman Group Co., Ltd., and (99) Zhongshan Magic Foodstuff Co., Ltd.

⁹ See Antidumping Proceedings: Announcement of Change in Department Practice for Respondent Selection in Antidumping Duty Proceedings and Conditional Review of the Nonmarket Economy Entity in NME Antidumping Duty Proceedings, 78 FR 65963 (November 4, 2013).

Assessment Rates

Pursuant to section 751(a)(2)(C) of the Tariff Act of 1930, as amended (the Act) and 19 CFR 351.212(b), the Department has determined, and CBP shall assess, antidumping duties on all appropriate entries of subject merchandise covered by this review. The Department intends to issue assessment instructions to CBP 15 days after the date of publication of these final results of review. In these final results, Dezhou Kaihang's weighted-average dumping margin is zero. Accordingly, we will instruct CBP to liquidate the entries reported by Dezhou Kaihang without regard to antidumping duties. The Department also intends to instruct CBP to liquidate entries of subject merchandise from the exporters identified above as being part of the PRC-wide entity (including Kangfa) at the PRC-wide rate, i.e., 308.33 percent.

Pursuant to a refinement in the Department's non-market economy practice, for entries that were not reported in the U.S. sales databases submitted by companies individually examined during this review, the Department will instruct CBP to liquidate such entries at the PRC-wide rate.¹⁰ Additionally, if the Department determines that an exporter had no shipments of the subject merchandise, any suspended entries that entered under that exporter's case number (i.e., at that exporter's rate) will be liquidated at the PRC-wide rate.¹¹ As noted above, the Department determines that Hongda and Gangchang did not have any reviewable transactions during the POR. As a result, any suspended entries that entered under these exporters' case numbers will be liquidated at the PRC-wide rate.

¹⁰ See Non-Market Economy Antidumping Proceedings: Assessment of Antidumping Duties, 76 FR 65694 (October 24, 2011).

¹¹ Id.

Cash Deposit Requirements

The following cash deposit requirements will be effective for all shipments of subject merchandise entered, or withdrawn from warehouse, for consumption on or after the publication date of the final results of this administrative review, as provided by section 751(a)(2)(C) of the Act: (1) For Dezhou Kaihang the cash deposit is zero percent; (2) for previously investigated or reviewed PRC and non-PRC exporters which are not under review in this segment of the proceeding but received a separate rate in a previous segment, the cash deposit rate will continue to be the exporter-specific rate published for the most recently-completed period; (3) for all PRC exporters of subject merchandise which have not been found to be entitled to a separate rate, the cash deposit rate will be that for the PRC-wide entity (i.e., 308.33 percent); and (4) for all non-PRC exporters of subject merchandise which have not received their own rate, the cash deposit rate will be the rate applicable to the PRC exporter(s) that supplied the non-PRC exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

We are issuing and publishing these results and this notice in accordance with sections 751(a)(1) and 777(i) of the Act.

Dated: June 26, 2017.
Ronald K. Lorentzen,
Acting Assistant Secretary for Enforcement and Compliance.

Appendix

List of Topics Discussed in the Issues and Decision Memorandum

Summary

Background

Scope of the Order

Discussion of the Issues

Comment: Whether the Department Should Reaffirm the Preliminary Results With Respect to Dezhou Kaihang

Recommendation

[FR Doc. 2017-13939 Filed 6-30-17; 8:45 am]

BILLING CODE 3510-DS-P